DEPARTMENT OF COMMERCE

National Oceanic and Atmospheric Administration

RIN 0648-XM73

National Marine Fisheries Service; Public Meeting

AGENCY: National Marine Fisheries Service (NMFS), National Oceanic and Atmospheric Administration (NOAA), Commerce.

ACTION: Notice of a public workshop.

SUMMARY: NMFS will hold a workshop for participants that are required to submit an Economic Data Report for the Bering Sea and Aleutian Islands Crab Rationalization Program.

DATES: The workshop will be held on Thursday, January 22, 2009, from 1:30 p.m. to 5 p.m. Pacific Standard Time.

ADDRESSES: The workshop will be held at the Pacific Seafood Processors Association office, 1900 W. Emerson Place, #205, Seattle, WA 98119.

FOR FURTHER INFORMATION CONTACT: Brian Garber-Yonts; (206) 526-6301 or brian.garber-yonts@noaa.gov.

SUPPLEMENTARY INFORMATION: The Bering Sea and Aleutian Islands (BSAI) Crab Rationalization Program requires any owner or leaseholder of a vessel or processing plant that harvested or processed crab in certain BSAI fisheries to submit an Economic Data Report (EDR) for the previous calendar year. NMFS staff will hold a workshop with BSAI crab industry members to review current crab EDR data documentation and data quality findings. Workshop participants will also discuss the development of best practices guidelines for completing crab EDR forms and discuss possible revisions to the current crab EDR forms. For further information on the Crab Rationalization Program, please visit the NMFS Alaska Region website at http://www.alaskafisheries.noaa.gov.

Special Accommodations

This workshop is physically accessible to people with disabilities. Requests for special accommodations should be directed to Brian Garber-Yonts (see FOR FURTHER INFORMATION CONTACT) at least 5 working days before the workshop date.

Dated: January 13, 2009.
Tracey L. Thompson,
Acting Director, Office of Sustainable Fisheries, National Marine Fisheries Service.

[FR Doc. E9-921 Filed 1-15-09; 8:45 am]

BILLING CODE 3510-22-S